DEPARTMENT OF COMMERCE

National Institute of Standards and Technology

Information Collection Activities; Submission to the Office of Management and Budget (OMB) for Review and Approval; Comment Request; Generic Clearance for Community Resilience Data Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 15, 2022 during a 60-day comment period. This notice allows for an additional 30 days for public comments.

Agency: National Institute of Standards and Technology (NIST), Commerce.

Title: Generic Clearance for Community Resilience Data Collections.

OMB Control Number: 0693-0078.

Form Number(s): None.

Type of Request: Regular submission (revision and extension of a currently approved information collection).

Number of Respondents: 25,000.

Average Hours per Response: Varied, dependent upon the data collection method used. The possible response time to complete a questionnaire may be 15 minutes or 2 hours to participate in an interview.

Burden Hours: 18,000.

Needs and Uses: Through acts such as the National Construction Safety Team Act (NCSTA), the National Windstorm Impact Reduction Act (NWIRA) and the NIST Organic Act, among others, as well as the President's Climate Action Plan (2013), NIST conducts research and develops guidance and other related tools to promote and enhance the safety and well-being of people in the face of a hazard event. With this in mind, NIST proposes to conduct a number of data collection efforts within the topic areas of disaster and failure studies and community resilience and sustainability, including studies of specific disaster events (e.g., wildfire, urban fire, structure collapse, hurricane, earthquake, tornado, and flood events), assessments of community resilience and sustainability, and evaluations of the usability and utility of NIST resilience guidance or other products. NIST is requesting an increase in both number of respondents and burden hours through this renewal.

Affected Public: Federal government; households and individuals; the private sector; and state and local governments.

Frequency: On occasion.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0078.

Sheleen Dumas,
Department PRA Clearance Officer, Office of the Chief Information Officer, Commerce Department.

[FR Doc. 2022-13146 Filed 6-17-22; 8:45 am]

BILLING CODE 3510-13-P